DEPARTMENT OF DEFENSE

Department of the Navy

Notice of Public Hearings for a Draft Overseas Environmental Impact Statement/Environmental Impact Statement for the Undersea Warfare Training Range; Correction

AGENCY: Department of Navy, DOD.

ACTION: Notice, correction.

SUMMARY: The Department of the Navy published a document in the Federal Register of October 28, 2005, concerning public hearings on a Draft Overseas Environmental Impact Statement/Environmental Impact Statement for the Undersea Warfare Training Range. The document contained an incorrect address.

FOR FURTHER INFORMATION CONTACT: Mr. Keith Jenkins, 757-322-4046.

Correction

In the Federal Register of October 28, 2005, in FR Doc. 70-208, on page 62103, in the first column, correct the section of the ADDRESSES caption to read:

3. Jacksonville—Wilson Center for the Arts, Florida Community College, Jacksonville South Campus, 11901 Beach Boulevard, Jacksonville, FL 32246.

Dated: November 10, 2005.
Eric McDonald,
Lieutenant Commander, Judge Advocate General's Corps, U.S. Navy, Federal Register Liaison Officer.

[FR Doc. 05-22708 Filed 11-15-05; 8:45 am]

BILLING CODE 3810-FF-P